DEPARTMENT OF COMMERCE

International Trade Administration

A-549-822

Certain Frozen Warmwater Shrimp from Thailand: Notice of Extension of Time Limit for the Final Results of the 2008-2009 Administrative Review

AGENCY: Import Administration, International Trade Administration, Department of Commerce.

FOR FURTHER INFORMATION CONTACT: Kate Johnson at (202) 482-4929, or David Goldberger at (202) 482-4136, AD/CVD Operations, Office 2, Import Administration, International Trade Administration, U.S. Department of Commerce, 14th Street and Constitution Avenue, N.W., Washington, D.C. 20230.

Background

On March 15, 2010, the Department of Commerce (the Department) published the preliminary results of the administrative review of the antidumping duty order on certain frozen warmwater shrimp from Thailand covering the period February 1, 2008, through January 31, 2009. See Certain Frozen Warmwater Shrimp from Thailand: Preliminary Results of Antidumping Duty Administrative Review and Final Results of Partial Rescission of Antidumping Duty Administrative Review, 75 FR 12188 (March 15, 2010). The final results for this administrative review are currently due no later than July 13, 2010, 120 days from the date of publication of the preliminary results of review.

Extension of Time Limit for the Final Results

Section 751(a)(3)(A) of the Tariff Act of 1930, as amended (the Act), requires the Department to issue the final results of an administrative review within 120 days after the date on which the preliminary results are published. If it is not practicable to complete the review within that time period, section 751(a)(3)(A) of the Act allows the Department to extend the deadline for the final results to a maximum of 180 days after the date on which the preliminary results are published.

The Department requires additional time to complete this review in order to properly consider the numerous and complex issues raised by interested parties in their case briefs (e.g., cooked form model matching product characteristic and CEP offset). Thus, it is not practicable to complete this review within the original time limit. Therefore, the Department is extending the time limit for completion of the final results of this review by 60 days, in accordance with section 751(a)(3)(A) of the Act. Because September 11, 2010, falls on a Saturday, the new deadline for the final results will be September 13, 2010.

We are issuing and publishing this notice in accordance with sections 751(a)(1) and 777(i)(1) of the Act.

Dated: June 15, 2010.
John M. Andersen,
Acting Deputy Assistant Secretary for Antidumping and Countervailing Duty Operations.

[FR Doc. 2010-14958 Filed 6-18-10; 8:45 am]

BILLING CODE S